INTERNATIONAL TRADE COMMISSION

[Investigation No. 337-TA-1025]

Certain Silicon-on-Insulator Wafers; Commission Determination Not To Review an Initial Determination; Granting a Joint Unopposed Motion To Terminate the Investigation Based Upon Settlement; Termination of the Investigation

AGENCY: U.S. International Trade Commission.

ACTION: Notice.

SUMMARY: Notice is hereby given that the U.S. International Trade Commission has determined not to review the initial determination (“ID”) (Order No. 17) granting a joint unopposed motion to terminate the investigation based upon a settlement agreement.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on October 25, 2016, based on a complaint filed by Silicon Genesis Corporation of Santa Clara, California (“SiGen”). 81 FR 73419-20 (Oct. 25, 2016). The complaint alleges violations of section 337 of the Tariff Act of 1930, as amended (19 U.S.C. 1337), in the importation into the United States, the sale for importation, and the sale within the United States after importation of certain silicon-on insulator wafers by reason of infringement of certain claims of U.S. Patent Nos. 6,458,672, and 6,171,965. Id. at 73419. The notice of investigation named as respondent Soitec S.A. of Bernin, France (“Soitec”). Id. at 73420. The Office of Unfair Import Investigations (“OUII”) was also named as a party to the investigation. Id.

On March 31, 2017, SiGen and Soitec filed a joint motion to terminate the investigation based upon a settlement agreement. On April 6, 2017, OUII filed a response, supporting the motion.

On April 6, 2017, the presiding administrative law judge (“ALJ”) issued an ID, Order No. 17, granting the motion. The ALJ found that good cause exists for the termination and that termination serves the public interest. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: May 8, 2017.
Lisa R. Barton,
Secretary to the Commission.

[FR Doc. 2017-09580 Filed 5-10-17; 8:45 am]

BILLING CODE 7020-02-P